DEPARTMENT OF COMMERCE

National Oceanic and Atmospheric Administration

50 CFR Part 217

[Docket No. 200323-0085]

RIN 0648-BJ37

Take of Marine Mammals Incidental to Specified Activities; Taking Marine Mammals Incidental to Rocky Intertidal Monitoring Surveys Along the Oregon and California Coasts; Correction

AGENCY: National Marine Fisheries Service (NMFS), National Oceanic and Atmospheric Administration (NOAA), Commerce.

ACTION: Final rule; correction.

SUMMARY: This document contains a correction to the effective date of the final regulations published on April 2, 2020, governing the take of marine mammals incidental to the University of California Santa Cruz's Partnership for Interdisciplinary Studies of Coastal Oceans (UCSC/PISCO) rocky intertidal monitoring surveys along the Oregon and California coasts.

DATES: The effective date for the final rule published April 2, 2020, at 85 FR 18459, is corrected. The final rule is effective from April 12, 2020, through April 11, 2025.

ADDRESSES: Electronic copies of the application and supporting documents, as well as a list of the references cited in this document, may be obtained online at: https://www.fisheries.noaa.gov/permit/incidental-take-authorizations-under-marine-mammal-protection-act. In case of problems accessing these documents, please call the contact listed below.

FOR FURTHER INFORMATION CONTACT: Dwayne Meadows, Ph.D., Office of Protected Resources, NMFS, (301) 427-8401.

SUPPLEMENTARY INFORMATION:

Background

A final rule published April 2, 2020 (85 FR 18459), for the take of marine mammals incidental to the University of California Santa Cruz's Partnership for Interdisciplinary Studies of Coastal Oceans (UCSC/PISCO) rocky intertidal monitoring surveys along the Oregon and California coasts. This document corrects the incorrect final effective date of the regulations contained in the preamble DATES section.

Need for Correction

As published on page 18459 of the preamble of the final rule the DATES section was incorrect. This correction does not change NMFS' analysis or conclusions in the final rule.

Dated: April 7, 2020.
Samuel D. Rauch III,
Deputy Assistant Administrator for Regulatory Programs, National Marine Fisheries Service.

[FR Doc. 2020-07622 Filed 4-9-20; 8:45 am]

BILLING CODE 3510-22-P